DEPARTMENT OF THE TREASURY

Community Development Financial Institutions Fund

Funding Opportunity Title: Notice of Funds Availability (NOFA) inviting applications for the FY 2010 Funding Round of the Native American CDFI Assistance (NACA) Program.

Announcement Type: Announcement of funding opportunity.

Catalog of Federal Domestic Assistance (CFDA) Number: 21.020

DATES: Applications for Financial Assistance (FA) and/or Technical Assistance (TA) awards through the FY 2010 Funding Round of the NACA Program must be received by 5 p.m. Eastern Time (ET), October 7, 2009.

Executive Summary: Subject to funding availability, this NOFA is issued in connection with the FY 2010 Funding Round of the NACA Program (the FY 2010 Funding Round). The NACA Program is administered by the Community Development Financial Institutions Fund (the Fund).

I. Funding Opportunity Description

A. Through the NACA Program, the Fund provides: (i) FA awards to CDFIs that have at least 50 percent of their activities directed toward serving Native American, Alaskan Native, and/or Native Hawaiian Communities (Native CDFIs) that have Comprehensive Business Plans for creating demonstrable community development impact through the deployment of credit, capital, and financial services within their respective Target Markets or the expansion into new Investment Areas, Low-Income Targeted Populations, or Other Targeted Populations, and (ii) TA grants to Native CDFIs, entities proposing to become Native CDFIs, and to Native organizations, Tribes, and Tribal organizations that propose to create Native CDFIs (Sponsoring Entities), in order to build their capacity to meet the community development and capital access needs of their existing or proposed Target Markets and/or to become certified Native CDFIs.

B. The regulations governing the CDFI Program are found at 12 CFR part 1805 (the Regulations) and provide guidance on evaluation criteria and other requirements of the NACA Program. The Fund encourages Applicants to review the Regulations. Detailed application content requirements are found in the applicable funding application and related guidance materials. Each capitalized term in this NOFA is more fully defined in the Regulations, the application, or the guidance materials.

C. The Fund reserves the right to fund, in whole or in part, any, all, or none of the applications submitted in response to this NOFA. The Fund reserves the right to re-allocate funds from the amount that is anticipated to be available under this NOFA to other Fund programs, particularly if the Fund determines that the number of awards made under this NOFA is fewer than projected.

II. Award Information

A. Funding Availability: Through this NOFA, and subject to funding availability, the Fund expects that it may award approximately $12 million in appropriated funds in the FY 2010 Funding Round. The Fund reserves the right to award in excess of $12 million in appropriated funds to Applicants in the FY 2010 Funding Round, provided that the funds are available and the Fund deems it appropriate.

B. Availability of Funds for the FY 2010 Funding Round: Funds for the FY 2010 Funding Round have not yet been appropriated. If funds are not appropriated for the FY 2010 Funding Round, there will not be a FY 2010 Funding Round. Further, it is possible that if funds are appropriated for the FY 2010 Funding Round, the amount of such funds may be greater than or less than the amounts set forth above. Further, if funds for the FY 2010 Funding Round are not appropriated, entities that are eligible to apply for CDFI Program funds and that might otherwise have applied for NACA Program funds are encouraged to apply for funds through the FY 2010 Funding Round of the CDFI Program.

C. Types of Awards: An Applicant may submit an application either for: (i) A FA-only award; (ii) a FA award and a TA grant; or (iii) a TA-only grant.

1. FA Awards: FA is intended to provide flexible financial support to CDFIs so that they may achieve the strategies outlined in their Comprehensive Business Plans. FA awards can be used in the following five categories: (i) Financial Products; (ii) Financial Services; (iii) Development Services; (iv) Loan Loss Reserves, Capital Reserves, or other activities/uses that support the activities in the Applicant's Comprehensive Business Plan; and/or (v) Operations. For purposes of this NOFA, Financial Products means loans, grants, equity investments, and similar financing activities, including the purchase of loans originated by certified CDFIs and the provision of loan guarantees, in the Applicant's Target Market, or for related purposes that the Fund deems appropriate (including administrative funds used to carry out Financial Products). Financial Services means checking and savings accounts, certified checks, automated teller machines services, deposit taking, remittances, safe deposit box services, and other similar services (including administrative funds used to carry out Financial Services). Development Services means activities that promote community development and are integral to the Applicant's provisions of Financial Products and Financial Services (including administrative funds used to carry out Development Services) including, for example, financial or credit counseling, housing and homeownership counseling (pre- and post-), self-employment technical assistance, entrepreneurship training, and financial management skill-building. Loan Loss Reserves means funds that the Applicant will set aside in the form of cash reserves, or through accounting-based accrual reserves, to cover losses on loans, accounts, and notes receivable made in its Target Market, or for related purposes that the Fund deems appropriate (including administrative funds used to carry out Loan Loss Reserves). Capital Reserves means funds that the Applicant will set aside in the form of reserves to support the Applicant's ability to leverage other capital, for such purposes as increasing its net assets or serving the financing needs of its Target Market, or for related purposes that the Fund deems appropriate (including administrative funds used to carry out Capital Reserves). Operations means funds that the Applicant will use to carry out its Comprehensive Business Plan, and/or for related purposes that the Fund deems appropriate, that are not used to carry out or administer any of the foregoing eligible FA uses. FA awards are most commonly used for an Applicant's Financial Products since FA funds can be used to support the Applicant's community development lending activities.

The Fund may provide FA awards in the form of equity investments (including, in the case of certain Insured Credit Unions, secondary capital accounts), grants, loans, deposits, credit union shares, or any combination thereof. The Fund reserves the right, in its sole discretion, to provide a FA award in a form and amount other than that which the Applicant requests; however, the award amount will not exceed the Applicant's award request as stated in its application. The Fund reserves the right, in its sole discretion, to provide a FA award to an Applicant on the condition that the Applicant agrees to use a TA grant for specified capacity-building purposes, even if the Applicant has not requested a TA grant. FA awards must be used to support the Applicant's activities; FA awards cannot be used to support the activities of, or otherwise be “passed through” to, third-party entities, whether Affiliates, Subsidiaries, or others, without the prior written permission of the Fund.

2. TA Grants:

(a) The Fund provides TA awards in the form of grants. The Fund reserves the right, in its sole discretion, to provide a TA grant for uses and amounts other than that which the Applicant requests; however, the award amount will not exceed the Applicant's award request as stated in its application and the applicable budget chart.

(b) TA grants may be used to address a variety of needs including, but not limited to, development of strategic planning documents (such as strategic or capitalization plans), market analyses or product feasibility analyses, operational policies and procedures, curricula for Development Services (such as entrepreneurial training, home buyer education, financial education or training, or borrower credit repair training), improvement of underwriting and portfolio management, development of outreach and training strategies to enhance product delivery, operating support to expand into a new eligible market, and tools that allow the Applicant to assess the impact of its activities in its community.

(c) Eligible TA grant uses include, but are not limited to: (i) Procuring professional services; (ii) acquiring/enhancing technology items, including computer hardware, software, and Internet connectivity and related management information systems; (iii) acquiring training for staff, management, and/or board members; and (iv) paying recurring expenses, including staff salary and other key operating expenses, that will enhance the capacity of the Applicant to serve its Target Market and/or to become certified as a Native CDFI or to create a Native CDFI.

D. Notice of Award; Assistance Agreement: Each Awardee under this NOFA must sign a Notice of Award and an Assistance Agreement in order to receive a disbursement of award proceeds by the Fund. The Notice of Award and the Assistance Agreement contain the terms and conditions of the award. For further information, see Sections VI.A and VI.B of this NOFA.

III. Eligibility Information

A. Eligible Applicants: The Regulations specify the eligibility requirements that each Applicant must meet in order to be eligible to apply for assistance under this NOFA. The following sets forth additional detail and dates that relate to the submission of applications under this NOFA:

1. FA Applicant Categories: All Applicants for FA awards through this NOFA must meet the following criteria:

Table 1—FA Applicant Criteria
FA applicant category | Applicant criteria | Applicant may apply for: | Application deadline
Native CDFI | A Certified/Certifiable Native CDFI that meets all other eligibility requirements described in this NOFA | Up to and including $750,000 in FA funds, and up to and including $150,000 in TA funds | 5:00 p.m. ET, October 7, 2009.

Please note: The Fund reserves the right, in its sole discretion, to award amounts in excess of or less than the anticipated maximum award amounts permitted in this NOFA, if the Fund deems it appropriate.

2. TA Applicants: All Applicants for TA grants through this NOFA must meet the following criteria:

Table 2—TA Applicant Criteria
Applicant type | Criteria of applicant | Applicant can apply for: | Application due date
TA-Only | A Certified Native CDFI, a Certifiable Native CDFI, an Emerging Native CDFI, or a Sponsoring Entity | Up to $150,000 for capacity-building activities | 5:00 p.m. ET, October 7, 2009.
FA/TA | A Certified Native CDFI or a Certifiable Native CDFI | Up to $150,000 in TA for capacity-building activities | 5:00 p.m. ET, October 7, 2009.

The Fund, in its sole discretion, reserves the right to award amounts less than the anticipated maximum award amounts permitted in this NOFA, if the Fund deems it appropriate.

3. Native CDFI Certification Requirements: For purposes of this NOFA, eligible FA Applicants include Certified Native CDFIs and Certifiable Native CDFIs; eligible TA Applicants include Certified Native CDFIs, Certifiable Native CDFIs, Emerging Native CDFIs, and Sponsoring Entities, defined as follows:

(a) Certified Native CDFIs: For purposes of this NOFA, a Certified Native CDFI is an entity that has received official notification from the Fund that it meets all CDFI certification requirements as of the date of publication of this NOFA, the certification of which has not expired and that has not been notified by the Fund that its certification has been terminated. In cases where the Fund provided Native CDFIs with written notification that their certifications had been extended, the Fund will consider the extended certification date (the later date) to determine whether those Native CDFIs meet this eligibility requirement. When applicable, each such Applicant must submit a Certification of Material Events form to the Fund not later than September 16, 2009 (see Table 3—FY 2010 NACA Program Deadlines). The Certification of Material Events form can be found on the Fund's Web site at http://www.CDFIfund.gov.

(b) Certifiable Native CDFIs: For purposes of this NOFA, a Certifiable Native CDFI is an entity from which the Fund has received a complete CDFI Certification application no later than September 16, 2009 (see Table 3—FY 2010 NACA Program Deadlines), evidencing that the Applicant meets the requirements to be certified as a Native CDFI. The CDFI Certification application can be found on the Fund's Web site at http://www.CDFIfund.gov. If the Fund is unable to certify the organization as a Native CDFI based on the CDFI certification application submitted to the Fund, it is in the sole discretion of the Fund to terminate the Notice of Award and the award commitment. While a Certifiable Native CDFI may be conditionally selected for a FA award (as evidenced through the Notice of Award), the Fund will not enter into an Assistance Agreement or disburse award funds unless and until the Fund has officially certified the organization as a Native CDFI.

(c) Emerging Native CDFIs: For purposes of this NOFA, an Emerging Native CDFI is an entity that demonstrates to the Fund's satisfaction that it has a reasonable plan to be a certified Native CDFI within two calendar years after both entities enter into an Assistance Agreement or such other date selected by the Fund. Emerging Native CDFIs may apply for TA grants only and are not eligible to apply for FA awards. Each Emerging Native CDFI selected to receive a TA grant will be required, pursuant to its Assistance Agreement with the Fund, to become certified as a Native CDFI by a certain date.

(d) Sponsoring Entities: For the purposes of this NOFA, a Sponsoring Entity is an entity that proposes to create a separate legal entity that will become a certified Native CDFI. For purposes of this NOFA, Sponsoring Entities include: (a) A Tribe, Tribal entity, Alaska Native Village, Village Corporation, Regional Corporation, Non-Profit Regional Corporation/Association, or Inter-Tribal or Inter-Village organization; or (b) an organization whose primary mission is to serve a Native Community including, but not limited to, an Urban Indian Center, Tribally Controlled Community College, community development corporation (CDC), training or education organization, or Chamber of Commerce, and that primarily serves a Native Community (meaning, at least 50 percent of its activities are directed toward the Native Community). Sponsoring Entities may only apply for TA grants; they are not eligible to apply for FA awards. Each Sponsoring Entity that is selected to receive a TA grant will be required, pursuant to its Assistance Agreement with the Fund, to create a legal entity by a certain date that will, in turn, seek Native CDFI certification and to transfer available award funds to that Native CDFI upon certification.

4. Limitation on Awards: An Applicant may receive only one FA award through the FY 2010 Funding Round of the CDFI Program or the NACA Program. No Applicant may also receive a FY 2010 Bank Enterprise Award (BEA) Program award (subject to certain limitations; refer to the Regulations at 12 CFR 1805.102). An NACA Program Applicant, its Subsidiaries, or Affiliates also may apply for and receive a tax credit allocation through the New Markets Tax Credit (NMTC) Program, but only to the extent that the activities approved for NACA Program awards are different from those activities for which the Applicant receives a NMTC Program allocation.

B. Prior Awardees: Applicants must be aware that success in a prior round of any of the Fund's programs is not indicative of success under this NOFA. For purposes of this section, the Fund will consider an Affiliate to be any entity that meets the definition of Affiliate in the Regulations or an entity otherwise identified as an Affiliate by the Applicant in its funding application under this NOFA. Prior Awardees should note the following:

1. $5 million Funding Cap: Congress waived the $5 million funding cap for the FY 2009 Funding Round, and it is possible that the $5 million funding cap may be waived for the FY 2010 Funding Round as well. As of the publication date of this NOFA, however, such a waiver has not been enacted into law. Accordingly, the Fund is currently prohibited from obligating more than $5 million in assistance, in the aggregate, to any one organization and its Subsidiaries and Affiliates during any three-year period. In general, the three-year period extends back three years from the date that the Fund signs a Notice of Award; for purposes of this NOFA, and for ease of administration, the Fund will consider any assistance documented with a Notice of Award dated between October 1, 2007 and October 1, 2010 (which is the anticipated date that the Fund will issue Notices of Award for the FY 2010 Funding Round). However, in light of the possibility of a waiver of the $5 million funding cap, an Applicant who is otherwise eligible under this NOFA, and is requesting an award amount that would cause the Applicant to exceed the $5 million funding cap, should submit an Application under this NOFA. The Fund will assess applicability of the $5 million funding cap during the award selection phase based upon whether the Congressional waiver has been enacted at that time.

2. Failure to Meet Reporting Requirements: The Fund will not consider an application submitted by an Applicant if the Applicant, or an Affiliate of the Applicant, is a prior Awardee or allocatee under any Fund program and is not current on the reporting requirements set forth in a previously executed assistance, allocation, or award agreement(s), as of the applicable application deadline of this NOFA. Please note that the Fund only acknowledges the receipt of reports that are complete. As such, incomplete reports or reports that are deficient of required elements will not be recognized as having been received.

3. Pending Resolution of Noncompliance: If an Applicant is a prior Awardee or allocatee under any Fund program and if (i) it has submitted complete and timely reports to the Fund that demonstrate noncompliance with a previous assistance, allocation, or award agreement, and (ii) the Fund has yet to make a final determination as to whether the entity is in default of its previous assistance, allocation, or award agreement, the Fund will consider the Applicant's application under this NOFA pending full resolution, in the sole determination of the Fund, of the noncompliance. Further, if an Affiliate of the Applicant is a prior Fund Awardee or allocatee and if such entity (i) has submitted complete and timely reports to the Fund that demonstrate noncompliance with a previous assistance, allocation, or award agreement and (ii) the Fund has yet to make a final determination as to whether the entity is in default of its previous assistance, allocation, or award agreement, the Fund will consider the Applicant's application under this NOFA pending full resolution, in the sole determination of the Fund, of the noncompliance.

4. Default Status: The Fund will not consider an application submitted by an Applicant that is a prior Awardee or allocatee under any Fund program if, as of the applicable application deadline of this NOFA, the Fund has made a final determination that such Applicant is in default of a previously executed assistance, allocation, or award agreement(s). Further, an entity is not eligible to apply for an award pursuant to this NOFA if, as of the applicable application deadline of this NOFA, the Fund has made a final determination that an Affiliate of the Applicant is a prior Awardee or allocatee under any Fund program and has been determined by the Fund to be in default of a previously executed assistance, allocation, or award agreement(s). Such entities will be ineligible to apply for an award pursuant to this NOFA so long as the Applicant's, or its Affiliate's, prior award or allocation remains in default status or such other time period as specified by the Fund in writing.

5. Termination in Default: The Fund will not consider an application submitted by an Applicant that is a prior Awardee or allocatee under any Fund program if (i) within the 12-month period prior to the applicable application deadline of this NOFA, the Fund has made a final determination that such Applicant`s prior award or allocation terminated in default of a previously executed assistance, allocation, or award agreement(s), and (ii) the final reporting period end date for the applicable terminated assistance, allocation, or award agreement(s) falls within the 12-month period prior to the application deadline of this NOFA. Further, an entity is not eligible to apply for an award pursuant to this NOFA if (i) within the 12-month period prior to the applicable application deadline, the Fund has made a final determination that an Affiliate of the Applicant is a prior Awardee or allocatee under any Fund program whose award or allocation terminated in default of a previously executed assistance, allocation, or award agreement(s), and (ii) the final reporting period end date for the applicable terminated assistance, allocation, or award agreement(s) falls within the 12-month period prior to the application deadline of this NOFA.

6. Undisbursed Award Funds: The Fund will not consider an application submitted by an Applicant that is a prior Awardee under any Fund program if the Applicant has a balance of undisbursed award funds (as defined below) under said prior award(s), as of the applicable application deadline of this NOFA. Further, an entity is not eligible to apply for an award pursuant to this NOFA if an Affiliate of the Applicant is a prior Awardee under any Fund program, and has a balance of undisbursed award funds under said prior award(s), as of the applicable application deadline of this NOFA. In a case where another entity that Controls the Applicant, is Controlled by the Applicant, or shares common management officials with the Applicant (as determined by the Fund) is a prior Awardee under any Fund program and has a balance of undisbursed award funds under said prior award(s), as of the applicable application deadline of this NOFA, the Fund will include the combined awards of the Applicant and such Affiliated entities when calculating the amount of undisbursed award funds.

For purposes of the calculation of undisbursed award funds for the BEA Program, only awards made to the Applicant (and any Affiliates) three to five calendar years prior to the end of the calendar year of the application deadline of this NOFA are included (“includable BEA awards”). Thus, for purposes of this NOFA, undisbursed BEA Program award funds are the amount of FY 2004, 2005, and 2006 awards that remain undisbursed as of the application deadline of this NOFA.

For purposes of the calculation of undisbursed award funds for the CDFI Program and the Native Initiatives Funding Programs, only awards made to the Applicant (and any Affiliates) two to five calendar years prior to the end of the calendar year of this NOFA are included (“includable CDFI/NI awards”). Thus, for purposes of this NOFA, undisbursed CDFI Program and NI awards are the amount of FYs 2004, 2005, 2006, and 2007 awards that remain undisbursed as of the application deadline of this NOFA. The term “Native Initiatives Funding Programs” refers to the NACA Program and all prior Native American funding programs sponsored by the Fund, through which funds are no longer available, including the Native American CDFI Technical Assistance (NACTA) Component of the CDFI Program, the Native American CDFI Development (NACD) Program, and the Native American Technical Assistance (NATA) Component of the CDFI Program.

To calculate total includable BEA/CDFI/NI awards: amounts that are undisbursed as of the application deadline of this NOFA cannot exceed five percent of the total includable awards. Please refer to an example of this calculation on the Fund's Web site, found in the Q&A document for the FY 2010 Funding Round.

The “undisbursed award funds” calculation does not include: (i) Tax credit allocation authority made available through the NMTC Program; (ii) any award funds for which the Fund received a full and complete disbursement request from the Awardee by the applicable application deadline of this NOFA; (iii) any award funds for an award that has been terminated in writing by the Fund or deobligated by the Fund; or (iv) any award funds for an award that does not have a fully executed assistance or award agreement. The Fund strongly encourages Applicants requesting disbursements of “undisbursed funds” from prior awards to provide the Fund with a complete disbursement request at least 10 business days prior to the application deadline of this NOFA.

7. Contact the Fund: Applicants that are prior Fund Awardees are advised to: (i) Comply with requirements specified in assistance, allocation, and/or award agreement(s), and (ii) contact the Fund to ensure that all necessary actions are underway for the disbursement or deobligation of any outstanding balance of said prior award(s). An Applicant that is unsure about the disbursement status of any prior award should contact the Fund's Senior Resource Manager via email at CDFI.disburseinquiries@cdfi.treas.gov.

C. Matching Funds: Congress waived the matching funds requirements for the FY 2009 Funding Round, and it is possible that the matching funds requirements may be waived for the FY 2010 Funding Round as well. As of the publication date of this NOFA, however, such a waiver has not been enacted into law. Accordingly, the Fund encourages Applicants to include matching funds documentation as instructed in the application; if the matching funds waiver is enacted, the Fund will not consider matching funds documentation. An Applicant that does not include matching funds documentation in its application runs the risk of being determined to be ineligible for funding under the FY 2010 Funding Round if said matching funds waiver is not enacted. In light of the possibility of a waiver of the matching funds requirements, an Applicant who would not satisfy the matching funds requirements but is otherwise eligible under this NOFA should submit an application under this NOFA. The Fund will assess applicability of the matching funds requirements during the award selection phase based upon whether the Congressional waiver has been enacted at that time.

Accordingly, subject to the immediately preceding paragraph:

1. Applicants responding to this NOFA must obtain non-Federal matching funds from sources other than the Federal government on the basis of not less than one dollar for each dollar of FA funds provided by the Fund (matching funds are not required for TA grants). Matching funds must be at least comparable in form and value to the FA provided by the Fund. For example, if an Applicant is requesting a FA award from the Fund, the Applicant must show that it has obtained matching funds through commitment(s) from non-Federal sources that are at least equal to the amount requested from the Fund. Applicants cannot use matching funds from a prior FA award under the NACA or CDFI Program or under another Federal grant or award program to satisfy the matching funds requirement of this NOFA. If an Applicant seeks to use as matching funds monies received from an organization that was a prior Awardee under the NACA or CDFI Program, the Fund will deem such funds to be Federal funds, unless the funding entity establishes to the reasonable satisfaction of the Fund that such funds do not consist, in whole or in part, of NACA or CDFI Program funds or other Federal funds. For the purposes of this NOFA, BEA Program awards may be used as matching funds. The Fund encourages Applicants to review the Regulations at 12 CFR 1805.500 et seq. and matching funds guidance materials on the Fund's website for further information.

2. Due to funding constraints and the desire to quickly deploy Fund dollars, the Fund will not consider for a FA award any Applicant that has no matching funds in-hand or firmly committed as of the application deadline of this NOFA. An Applicant for a FA award must demonstrate that it has eligible matching funds equal to no less than 25 percent of the amount of the FA award requested in-hand or firmly committed, on or after January 1, 2008, and on or before the application deadline. The Fund reserves the right to rescind all or a portion of a FA award and re-allocate the rescinded award amount to other qualified Applicant(s), if an Applicant fails to obtain in-hand 100 percent of the required matching funds by March 14, 2011 (with required documentation of such receipt received by the Fund not later than March 31, 2011), or to grant an extension of such matching funds deadline for specific Applicants selected to receive FA awards, if the Fund deems it appropriate. For any Applicant that demonstrates that it has less than 100 percent of matching funds in-hand or firmly committed as of the application deadline, the Fund will evaluate the Applicant's ability to raise the remaining matching funds by March 14, 2011.

3. Matching Funds Terms Defined; Required Documentation. (a) “Matching funds in-hand” means the Applicant has actually received the matching funds. If the matching funds are “in-hand,” the Applicant must provide the Fund with acceptable written documentation of the source, form, and amount of the matching funds (i.e., grant, loan, deposit, and equity investment). For a loan, the Applicant must provide the Fund with a copy of the loan agreement and promissory note. For a grant, the Applicant must provide the Fund with a copy of the grant letter or agreement for all grants of $50,000 or more. For an equity investment, the Applicant must provide the Fund with a copy of the stock certificate and any related shareholder agreement. Further, if the matching funds are “in-hand,” the Applicant must provide the Fund with acceptable documentation that evidences its receipt of the matching funds proceeds, such as a copy of a check or a wire transfer statement.

(b) “Firmly committed matching funds” means the Applicant has entered into or received a legally binding commitment from the matching funds source that the matching funds will be disbursed to the Applicant. If the matching funds are “firmly committed,” the Applicant must provide the Fund with acceptable written documentation to evidence the source, form, and amount of the firm commitment (and, in the case of a loan, the terms thereof), as well as the anticipated date of disbursement of the committed funds.

4. The Fund may contact the matching funds source to discuss the matching funds and the documentation provided by the Applicant. If the Fund determines that any portion of the Applicant's matching funds is ineligible under this NOFA, the Fund, in its sole discretion, may permit the Applicant to offer alternative matching funds as a substitute for the ineligible matching funds; provided, however, that (i) the Applicant must provide acceptable alternative matching funds documentation within two business days of the Fund's request and (ii) the alternative matching funds documentation cannot increase the total amount of Financial Assistance requested by the Applicant.

5. Special Rule for Insured Credit Unions: The Regulations allow an Insured Credit Union to use retained earnings to serve as matching funds for a FA grant in an amount equal to: (i) The increase in retained earnings that has occurred over the Applicant's most recent fiscal year; (ii) the annual average of such increases that has occurred over the Applicant's three most recent fiscal years; or (iii) the entire retained earnings that have been accumulated since the inception of the Applicant, as provided in the Regulations. For purposes of this NOFA, if option (iii) is used, the Applicant must increase its member and/or non-member shares or total loans outstanding by an amount that is equal to the amount of retained earnings that is committed as matching funds. This amount must be raised by the end of the Awardee's second performance period, as set forth in its Assistance Agreement, and will be based on amounts reported in the Applicant's Audited or Reviewed Financial Statements or NCUA Form 5300 Call Report. The Fund will assess the likelihood of this increase during the application review process. An award will not be made to any Applicant that has not demonstrated that it has increased shares or loans by at least 25 percent of the requested FA award amount between December 31, 2008, and December 31, 2009, as demonstrated by the corresponding NCUA report.

IV. Application and Submission Information

A. MyCDFIFund Accounts: All Applicants must register User and Organization accounts in myCDFIFund, the Fund's Internet-based interface. An Applicant must be registered as both a User and an Organization in myCDFIFund as of the applicable application deadline in order to be considered to have submitted a complete application. As myCDFIFund is the Fund's primary means of communication with Applicants and Awardees, organizations must make sure that they update the contact information in their myCDFIFund accounts before the applicable application deadline. For more information on myCDFIFund, please see the “Frequently Asked Questions” link posted at https://www.cdfifund.gov/myCDFI/Help/Help.asp.

B. Form of Application Submission: Applicants must submit applications under this NOFA electronically. Applications sent by mail, facsimile, or other form will not be permitted, except in circumstances that the Fund, in its sole discretion, deems acceptable.

C. Applications Submitted via myCDFIFund: Applicants must submit applications under this NOFA electronically, through myCDFIFund, the Fund's Internet-based interface. Please note that the Fund will not accept applications through Grants.gov. Applications sent by mail, facsimile, or other form will not be accepted except in circumstances approved by the Fund, in its sole discretion. The Fund will post to its Web site at http://www.cdfifund.gov instructions for accessing and submitting the application as soon as they become available.

D. Application Content Requirements: Detailed application content requirements, including the required elements of the Comprehensive Business Plan, are found in the application and guidance. Each Applicant must provide, as part of its application submission, a Dun and Bradstreet Data Universal Numbering System (DUNS) number pursuant to OMB guidance (68 FR 38402). Applicants should allow sufficient time for the Internal Revenue Service (IRS) and/or Dun and Bradstreet to respond to inquiries and/or requests for identification numbers. In addition, each application must include a valid and current Employer Identification Number (EIN), with a letter or other documentation from the IRS confirming the Applicant's EIN. An electronic application that does not include an EIN is incomplete and cannot be transmitted to the Fund. Once an application is submitted, the Applicant will not be allowed to change any element of the application. The preceding sentences do not limit the Fund's ability to contact an Applicant for the purpose of obtaining clarifying or confirming application information (such as a DUNS number or EIN information).

E. Under the Paperwork Reduction Act (44 U.S.C. chapter 35), an agency may not conduct or sponsor a collection of information, and an individual is not required to respond to a collection of information, unless it displays a valid OMB control number. Pursuant to the Paperwork Reduction Act, the application has been assigned the following control number: 1559-0025.

F. Application Deadlines: 1. The following are the deadlines for submission of the NACA Program Funding Application, the CDFI Certification Application, and the Certification of Material Events form:

Table 3—FY 2010 NACA Program Deadlines
[All 5 p.m. ET deadlines]
Document | Submission deadline | Last date to contact Fund
NACA Program Funding Application | Wednesday, October 7, 2009 | Monday, October 5, 2009.
CDFI Certification Application | Wednesday, September 16, 2009 | Monday, September 14, 2009.
Certification of Material Events Form | Wednesday, September 16, 2009 | Monday, September 14, 2009.

All NACA Program funding applications must be electronic and submitted through myCDFIFund. No paper submittals or attachments will be accepted. Please see the CDFI Certification application for requirements specific to that application.

2. Late Delivery: The Fund will neither accept a late application nor any portion of an application that is late; an application that is late, or for which any portion is late, will be rejected. The Fund will not grant exceptions or waivers. Any application that is deemed ineligible will not be returned to the Applicant.

G. Intergovernmental Review: Not applicable.

H. Funding Restrictions: For allowable uses of FA proceeds, please see the Regulations at 12 CFR 1805.301.

V. Application Review Information

A. Format: Funding applications must be single-spaced and use a 12-point font with 1-inch margins. Each section in the application that is scored has page limitations. Applicants are encouraged to read each section carefully and to remain within the page limitations for each section. The Fund will not consider responses beyond the specified page limitation in each section. Also, the Fund will read only information requested in the application and will not read attachments that have not been specifically requested in this NOFA or the application, such as the Applicant's five-year strategic or marketing plans.

B. Criteria: The Fund will evaluate each application on a 100-point scale using numeric scores with respect to the five sections required in the application. The Fund will score each section as indicated in the following table:

Table 4—Application Scoring Criteria
Application sections | Scoring points
Market Analysis | 25
Business Strategy | 25
Community Development Performance & Effective Use | 20
Management | 20
Financial Health & Viability | 10

C. Technical Assistance Proposal: Any Applicant applying for a TA grant, either alone or in conjunction with a request for an FA award, must complete a Technical Assistance Proposal (TAP) as part of its application. The TAP consists of a summary of the organizational improvements needed to achieve the objectives of the Comprehensive Business Plan, a budget, and a description of the requested goods and/or services comprising the TA award request. The budget and accompanying narrative will be evaluated for the eligibility and appropriateness of the proposed uses of the TA grant (described above). In addition, if the Applicant identifies a capacity-building need related to any of the evaluation criteria above (for example, if the Applicant requires a market need analysis or a community development impact tracking/reporting system), the Fund will assess its plan to use the TA grant to address said needs.

1. Non-Certified Applicants: An Applicant that is not a Certified Native CDFI and that requests TA to address certification requirements must explain how the requested TA grant will assist the Applicant in meeting the certification requirements. The Fund will assess the reasonableness of the plan to become certified (as specified above in Section III, Eligibility Information; A.3. Native CDFI Certification Requirements), taking into account the requested TA. For example, if the Applicant does not currently make loans and therefore does not meet the Financing Entity requirement, it might describe how the TA funds will be used to hire a consultant to develop underwriting policies and procedures to support the Applicant's ability to start its lending activity.

2. Recurring Activities: An Applicant that requests a TA grant for recurring activities must clearly describe the benefit that would accrue to its capacity or to its Target Market(s) (such as plans for expansion of staff, market, or products) as a result of the TA grant. If the Applicant is a prior Fund Awardee, it must describe how it has used the prior assistance and explain the need for additional Fund dollars over and above such prior assistance.

D. Review and Selection Process: 1. Eligibility and Completeness Review: The Fund will review each application to determine whether it is complete and the Applicant meets the eligibility requirements set forth above. An incomplete application does not meet eligibility requirements and will be rejected. Any application that does not meet eligibility requirements will not be returned to the Applicant.

2. Substantive Review: If an application is determined to be complete and the Applicant is determined to be eligible, the Fund will conduct the substantive review of the application in accordance with the criteria and procedures described in the Regulations, this NOFA, and the application and guidance. As part of the review process, the Fund may contact the Applicant by telephone, e-mail, mail, or through an on-site visit for the sole purpose of obtaining clarifying or confirming application information (such as statements of work, matching funds documentation, EINs, or DUNS numbers, for example). After submitting its application, the Applicant will not be permitted to revise or modify its application in any way nor attempt to negotiate the terms of an award. If contacted for clarifying or confirming information, the Applicant must respond within the time parameters set by the Fund.

3. Application Scoring; Ranking: (a) Application Scoring: The Fund will evaluate each application on a 100-point scale, comprising the five criteria categories described above, and assign numeric scores. An Applicant must receive a minimum score in each evaluation criteria in order to be considered for an award.

(b) Evaluating Prior Award Performance: In the case of an Applicant that has previously received funding through any Fund program, the Fund will consider and will deduct points for: (i) The Applicant's noncompliance with any active award or award that terminated in the current calendar year in meeting its performance goals and measures, reporting deadlines, and other requirements set forth in the assistance or award agreement(s) with the Fund during the Applicant's two complete fiscal years prior to the application deadline of this NOFA; (ii) the Applicant's failure to make timely loan payments to the Fund during the Applicant's two complete fiscal years prior to the application deadline of this NOFA (if applicable); (iii) performance on any prior Assistance Agreement as part of the overall assessment of the Applicant's ability to carry out its Comprehensive Business Plan; and (iv) funds deobligated from a FY 2007, 2008, or 2009 FA award (if the Applicant is applying for an FA award under this NOFA) if (A) the amount of deobligated funds is at least $200,000 and (B) the deobligation occurred within the 12 months prior to the application deadline under this NOFA. Any award deobligations that result in a point deduction for an application submitted under this NOFA will not be counted against future applications for FA through the NACA Program. In the case of an Applicant that has previously received funding through any Fund program, the Fund will consider and may, in its discretion, deduct points for those Applicants that have in any proceeding instituted against the Applicant in, by, or before any court, governmental, or administrative body or agency received a final determination within the last three years indicating that the Applicant has discriminated on the basis of race, color, national origin, disability, age, marital status, receipt of income from public assistance, religion, or sex.

(c) Ranking: The Fund then will rank the applications by their scores, from highest to lowest.

4. Award Selection: The Fund will make its final award selections based on the rank order of Applicants by their scores and the amount of funds available. In the case of tied scores, Applicants will be ranked according to each Applicant's combined scores in the Market Analysis, Business Strategy, and Community Development Performance & Effective Use sections; then the score on the Financial Health and Viability section; then the score on the Management section. In addition, the Fund shall consider the institutional and geographic diversity of Applicants when making its funding decisions.

5. Insured Native CDFIs: In the case of Insured Depository Institutions and Insured Credit Unions, the Fund will take into consideration the views of the Appropriate Federal Banking Agencies. In the case of State-Insured Credit Unions, the Fund may consult with the appropriate state banking agencies (or comparable entity). The Fund will not approve an FA award to any Insured Credit Union (other than a State-Insured Credit Union) or Insured Depository Institution Applicant for which its Appropriate Federal Banking Agency indicates it has safety and soundness concerns, unless the Appropriate Federal Banking Agency asserts, in writing, that (i) improvement in status is imminent and such improvement is expected to occur within the next nine months or within such other time frame deemed acceptable by the Fund, or (ii) the safety and soundness condition of the Applicant is adequate to undertake the activities for which the Applicant has requested an FA award and the obligations of an Assistance Agreement related to such an FA award.

6. Award Notification: Each Applicant will be informed of the Fund's award decision either through a Notice of Award (NOA) if selected for an award (see NOA section, below) or written declination if not selected for an award. The Fund will notify Awardees by e-mail using the addresses maintained in the Awardee's myCDFIFund account. Each Applicant that is not selected for an award, for reasons other than completeness or eligibility issues, will be provided a written debriefing on the strengths and weaknesses of its Application. This feedback will be provided in a format and within a timeframe to be determined by the Fund based on its available resources.

7. The Fund reserves the right to reject an application if information (including administrative errors) comes to the attention of the Fund that either adversely affects an Applicant's eligibility for an award, adversely affects the Fund's evaluation or scoring of an application, or indicates fraud or mismanagement on the part of an Applicant. If the Fund determines that any portion of the application is incorrect in any material respect, the Fund reserves the right, in its sole discretion, to reject the application. The Fund reserves the right to change its eligibility and evaluation criteria and procedures, if the Fund deems it appropriate; if said changes materially affect the Fund's award decisions, the Fund will provide information regarding the changes through the Fund's website. There is no right to appeal the Fund's award decisions. The Fund's award decisions are final.

VI. Award Administration Information

A. Notice of Award (NOA): The Fund will signify its conditional selection of an Applicant as an Awardee by delivering a signed NOA to the Applicant through its myCDFIFund account.

The NOA will contain the general terms and conditions underlying the Fund's provision of assistance including, but not limited to, the requirement that the Awardee and the Fund enter into an Assistance Agreement. The Applicant must execute the NOA and return it to the Fund. By executing a NOA, the Awardee agrees, among other things, that, if prior to entering into an Assistance Agreement with the Fund, information (including administrative error) comes to the attention of the Fund that either adversely affects the Awardee's eligibility for an award, adversely affects the Fund's evaluation of the Awardee's application, or indicates fraud or mismanagement on the part of the Awardee, the Fund may, in its discretion and without advance notice to the Awardee, terminate the NOA or take such other actions as it deems appropriate. Moreover, by executing a NOA, the Awardee agrees that, if prior to entering into an Assistance Agreement with the Fund, the Fund determines that the Awardee or an Affiliate of the Awardee is in default of any Assistance Agreement previously entered into with the Fund, the Fund may, in its discretion and without advance notice to the Awardee, either terminate the NOA or take such other actions as it deems appropriate. The Fund reserves the right, in its sole discretion, to rescind its award if the Awardee fails to return the NOA, signed by the authorized representative of the Awardee, along with any other requested documentation, within the deadline set by the Fund. For purposes of this section, the Fund will consider an Affiliate to mean any entity that meets the definition of Affiliate in the Regulations.

1. Failure to Meet Reporting Requirements: If an Awardee or an Affiliate of the Awardee is a prior Awardee or allocatee under any Fund program and is not current on the reporting requirements set forth in the previously executed assistance, allocation, or award agreement(s), as of the date of the NOA, the Fund reserves the right, in its sole discretion, to delay entering into an Assistance Agreement until said prior Awardee or allocatee is current on the reporting requirements in any previously executed assistance, allocation, or award agreement(s). Please note that the Fund only acknowledges the receipt of reports that are complete. As such, incomplete reports or reports that are deficient of required elements will not be recognized as having been received. If said prior Awardee or allocatee is unable to meet this requirement within the timeframe set by the Fund, the Fund reserves the right, in its sole discretion, to terminate and rescind the NOA and the award made under this NOFA.

2. Pending Resolution of Noncompliance: If an Applicant is a prior Awardee or allocatee under any Fund program and if: (i) It has submitted complete and timely reports to the Fund that demonstrate noncompliance with a previous assistance, award, or allocation agreement; and (ii) the Fund has yet to make a final determination as to whether the entity is in default of its previous assistance, award, or allocation agreement, the Fund reserves the right, in its sole discretion, to delay entering into an Assistance Agreement, pending full resolution, in the sole determination of the Fund, of the noncompliance. Further, if an Affiliate of the Awardee is a prior Fund Awardee or allocatee and if such entity (i) has submitted complete and timely reports to the Fund that demonstrate noncompliance with a previous assistance, award, or allocation agreement, and (ii) the Fund has yet to make a final determination as to whether the entity is in default of its previous assistance, award, or allocation agreement, the Fund reserves the right, in its sole discretion, to delay entering into an Assistance Agreement, pending full resolution, in the sole determination of the Fund, of the noncompliance. If the prior Awardee or allocatee in question is unable to satisfactorily resolve the issues of noncompliance, in the sole determination of the Fund, the Fund reserves the right, in its sole discretion, to terminate and rescind the NOA and the award made under this NOFA.

3. Default Status: If, at any time prior to entering into an Assistance Agreement through this NOFA, the Fund has made a final determination that an Awardee that is a prior Awardee or allocatee under any Fund program is in default of a previously executed assistance, allocation, or award agreement(s), the Fund reserves the right, in its sole discretion, to delay entering into an Assistance Agreement, until said prior Awardee or allocatee has submitted a complete and timely report demonstrating full compliance with said agreement within a timeframe set by the Fund. Further, if at any time prior to entering into an Assistance Agreement through this NOFA, the Fund has made a final determination that an Affiliate of the Awardee is a prior Awardee or allocatee under any Fund program and is in default of a previously executed assistance, allocation, or award agreement(s), the Fund reserves the right, in its sole discretion, to delay entering into an Assistance Agreement, until said prior Awardee or allocatee has submitted a complete and timely report demonstrating full compliance with said agreement within a timeframe set by the Fund. If said prior Awardee or allocatee is unable to meet this requirement and the Fund has not specified in writing that the prior Awardee or allocatee is otherwise eligible to receive an Award under this NOFA, the Fund reserves the right, in its sole discretion, to terminate and rescind the NOA and the award made under this NOFA.

4. Termination in Default: If (i) within the 12-month period prior to entering into an Assistance Agreement through this NOFA, the Fund has made a final determination that an Awardee is a prior Awardee or allocatee under any Fund program whose award or allocation was terminated in default of such prior agreement, and (ii) the final reporting period end date for the applicable terminated agreement falls within the 12-month period prior to the application deadline of this NOFA, the Fund reserves the right, in its sole discretion, to delay entering into or determine not to enter into an Assistance Agreement. Further, if (i) within the 12-month period prior to entering into an Assistance Agreement through this NOFA, the Fund has made a final determination that an Affiliate of the Awardee is a prior Awardee or allocatee under any Fund program whose award or allocation was terminated in default of such prior agreement, and (ii) the final reporting period end date for the applicable terminated agreement falls within the 12-month period prior to the application deadline of this NOFA, the Fund reserves the right, in its sole discretion, to delay entering into or determine not to enter into an Assistance Agreement.

5. Compliance with Federal Anti-Discrimination Laws: If the Awardee has previously received funding through any Fund program, and if at any time prior to entering into an Assistance Agreement through this NOFA, the Fund is made aware of a final determination, made within the last three years, in any proceeding instituted against the Awardee in, by, or before any court, governmental, or administrative body or agency, declaring that the Awardee has discriminated on the basis of race, color, national origin, disability, age, marital status, receipt of income from public assistance, religion, or sex, the Fund reserves the right, in its sole discretion, to terminate and rescind the Notice of Award and the award made under this NOFA.

B. Assistance Agreement: Each Applicant that is selected to receive an award under this NOFA must enter into an Assistance Agreement with the Fund in order to receive disbursement of award proceeds. The Assistance Agreement will set forth certain required terms and conditions of the award, which will include, but not be limited to: (i) The amount of the award; (ii) the type of award; (iii) the approved uses of the award; (iv) the approved eligible market to which the funded activity must be targeted; (v) performance goals and measures; and (vi) reporting requirements for all Awardees. TA-only Sponsoring Entity, FA-only, and FA/TA Assistance Agreements under this NOFA generally will have three-year performance periods; TA-only Assistance Agreements generally will have two-year performance periods.

The Fund reserves the right, in its sole discretion, to terminate the Notice of Award and rescind an award if the Awardee fails to return the Assistance Agreement, signed by the authorized representative of the Awardee, and/or provide the Fund with any other requested documentation, within the deadlines set by the Fund.

Each FA Awardee must provide the Fund with a certificate of good standing (or equivalent documentation) from its state (or jurisdiction) of incorporation.

C. Reporting: 1. Reporting Requirements: The Fund will collect information, on at least an annual basis, from each Awardee including, but not limited to, an Annual Report that comprises the following components: (i) Financial Reports (including an OMB A-133 audit, as applicable; however Financial Reports are not required of Sponsoring Entities); (ii) Institution Level Report; (iii) Transaction Level Report (for Awardees receiving FA awards); (iv) Financial Status Report form SF-269/SF-425 (for Awardees receiving TA grants); (v) Uses of Financial Assistance (for Awardees receiving FA awards); (vi) Explanation of Noncompliance (as applicable); and (vii) such other information as the Fund may require. Each Awardee is responsible for the timely and complete submission of the Annual Report, even if all or a portion of the documents actually is completed by another entity or signatory to the Assistance Agreement. If such other entities or signatories are required to provide Institution Level Reports, Transaction Level Reports, Financial Reports, or other documentation that the Fund may require, the Awardee is responsible for ensuring that the information is submitted timely and complete. The Fund reserves the right to contact such additional entities or signatories to the Assistance Agreement and require that additional information and documentation be provided. The Fund will use such information to monitor each Awardee's compliance with the requirements set forth in the Assistance Agreement and to assess the impact of the NACA Program. The Institution Level Report and the Transaction Level Report must be submitted through the Fund's web-based data collection system, the Community Investment Impact System (CIIS). The Financial Reports may be submitted through CIIS. All other components of the Annual Report may be submitted electronically, as directed, by the Fund. The Fund reserves the right, in its sole discretion, to modify these reporting requirements if it determines it to be appropriate and necessary; however, such reporting requirements will be modified only after notice to Awardees.

2. Accounting: The Fund will require each Awardee that receives FA and TA awards through this NOFA to account for and track the use of said FA and TA awards. This means that for every dollar of FA and TA awards received from the Fund, the Awardee will be required to inform the Fund of its uses. This will require Awardees to establish separate administrative and accounting controls, subject to the applicable OMB Circulars. The Fund will provide guidance to Awardees outlining the format and content of the information to be provided on an annual basis, outlining and describing how the funds were used. Each Awardee that receives an award must provide the Fund with the required complete and accurate Automated Clearinghouse (ACH) form for its bank account prior to award closing and disbursement.

VII. Agency Contacts

A. The Fund will respond to questions and provide support concerning this NOFA and the funding application between the hours of 9 a.m. and 5 p.m. ET, starting the date of the publication of this NOFA through three days prior to the application deadline. The Fund will not respond to questions or provide support concerning the applications that are received after 5 p.m. ET on said dates, until after the funding application deadline. Applications and other information regarding the Fund and its programs may be obtained from the Fund's Web site at http://www.cdfifund.gov. The Fund will post responses on its Web site to questions of general applicability regarding the NACA Program.

B. The Fund's contact information is as follows:

Table 5—Contact Information
[Fax number for all offices: 202-622-7754]
Type of question | Telephone number (not toll free) | E-mail addresses
NACA Program | 202-622-6355 | cdfihelp@cdfi.treas.gov.
CDFI Certification | 202-622-6355 | cdfihelp@cdfi.treas.gov.
Compliance Monitoring and Evaluation | 202-622-6330 | cme@cdfi.treas.gov.
Information Technology Support | 202-622-2455 | IThelp@cdfi.treas.gov.

C. Information Technology Support: People who have visual or mobility impairments that prevent them from creating a Target Market map using the Fund's Web site should call (202) 622-2455 for assistance (this is not a toll free number).

D. Communication with the CDFI Fund: The Fund will use the myCDFIFund Internet interface to communicate with Applicants and Awardees, using the contact information maintained in their respective myCDFIFund accounts. Therefore, the Applicant and any Subsidiaries, signatories, and Affiliates must maintain accurate contact information (including contact person and authorized representative, e-mail addresses, fax numbers, phone numbers, and office addresses) in its myCDFIFund account(s). For more information about myCDFIFund (which includes information about the Fund's Community Investment Impact System), please see the Help documents posted at http://www.cdfifund.gov/ciis/accessingciis.pdf.

VIII. Information Sessions and Outreach

The Fund may conduct webinars or host information sessions for organizations interested in applying to, or learning about, the Fund's programs. For further information, please visit the Fund's Web site at http://www.cdfifund.gov.

Authority: 12 U.S.C. 4703, 4704, 4706, 4707, 4717; 12 CFR part 1805.

Dated: August 13, 2009.
Donna J. Gambrell,
Director, Community Development Financial Institutions Fund.

[FR Doc. E9-19955 Filed 8-19-09; 8:45 am]

BILLING CODE 4810-70-P